DEPARTMENT OF JUSTICE

Notice of Lodging of Proposed Modification to Consent Decree Under the Clean Water Act

On December 15, 2016, the Department of Justice lodged a proposed Stipulation to Modify Consent Decree with the United States District Court for the District of Connecticut in the lawsuit entitled United States, et al. v. City of West Haven, Connecticut, Civil Action No. 3:13-cv-01883 (JCH).

In a supplemental complaint, the United States, on behalf of the U.S. Environmental Protection Agency, and the State of Connecticut, on behalf of the Connecticut Department of Energy and Environmental Protection, allege that the City of West Haven violated the Clean Water Act, 33 U.S.C. 1251, et seq., by failing to comply with Sections 5(b) and 6 of the Small Municipal Separate Storm Water System (“MS4”) General Permit, which requires the City to develop, implement, and enforce a Surface Water Monitoring Plan (“SWMP”) designed to reduce to the maximum extent practicable the discharge of pollutants from its Small MS4. The proposed stipulation in this case, among other things, requires that the City update its illicit discharge ordinance; update its SWMP by submitting revised MS4 outfall maps and its Construction and Post-Construction Site Stormwater Runoff Control Programs; and develop and implement an operation and maintenance program that includes a training component.

The publication of this notice opens a period for public comment on the stipulation. Comments should be addressed to the Assistant Attorney General, Environment and Natural Resources Division, and should refer to United States, et al. v. City of West Haven, Connecticut, D.J. Ref. No. 90-5-1-1-10543. All comments must be submitted no later than thirty (30) days after the publication date of this notice. Comments may be submitted either by email or by mail:

To submit comments: | Send them to:
By email | pubcomment-ees.enrd@usdoj.gov.
By mail | Assistant Attorney General, U.S. DOJ-ENRD, P.O. Box 7611, Washington, DC 20044-7611.

During the public comment period, the proposed stipulation may be examined and downloaded at this Justice Department Web site: https://www.justice.gov/enrd/consent-decrees. We will provide a paper copy of the proposed stipulation upon written request and payment of reproduction costs. Please mail your request and payment to: Consent Decree Library, U.S. DOJ-ENRD, P.O. Box 7611, Washington, DC 20044-7611.

Please enclose a check or money order for $3.25 (25 cents per page reproduction cost) payable to the United States Treasury.

Robert E. Maher, Jr.,
Assistant Chief, Environmental Enforcement Section, Environment & Natural Resources Division.

[FR Doc. 2016-30709 Filed 12-20-16; 8:45 am]

BILLING CODE 4410-15-P